DEPARTMENT OF HEALTH AND HUMAN SERVICES

Centers for Disease Control and Prevention

Reorganization of the National Center on Birth Defects and Developmental Disabilities

AGENCY: Centers for Disease Control and Prevention (CDC), the Department of Health and Human Services (HHS).

ACTION: Notice.

SUMMARY: CDC has modified its structure. This notice announces the reorganization of the National Center on Birth Defects and Developmental Disabilities (NCBDDD). NCBDDD realigned the Office of Genomics and Precision Public Health from the Office of Science to the NCBDDD, retitled and made mission and functional statements updates to some organizational entities.

DATES: This reorganization was approved by the Director of CDC on June 28, 2023.

FOR FURTHER INFORMATION CONTACT: Kimberly Thurmond, Office of the Chief Operating Officer, Office of the Director, Centers for Disease Control and Prevention, 1600 Clifton Road NE, MS TW-2, Atlanta, GA 30329. Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 9290-9291, dated February 13, 2023) is amended to reflect the reorganization of the National Center on Birth Defects and Developmental Disabilities, Centers for Disease Control and Prevention. Specifically, the changes are as follows:

I. Under Part C, Section C-B, Organization and Functions, insert the following:

• National Center on Birth Defects and Developmental Disabilities (CF)

• Office of the Director (CF1)

• Resource Management Office (CF12)

• Division of Birth Defects and Infant Disorders (CFB)

• Office of the Director (CFB1)

• Birth Defects Monitoring and Research Branch (CFBB)

• Infant Outcomes Monitoring, Research and Prevention Branch (CFBC)

• Division of Human Development and Disability (CFC)

• Office of the Director (CFC1)

• Child Development and Disability Branch (CFCB)

• Disability and Health Promotion Branch (CFCC)

• Division of Blood Disorders (CFD)

• Office of the Director (CFD1)

• Epidemiology and Surveillance Branch (CFBD)

• Hemostasis Laboratory Branch (CFDC)

• Public Health Genomics Branch (CFDD)

II. Under Part C, Section C-B, Organization and Functions, retitle the following organizational units:

• Division of Blood Disorders (CFD) to the Division of Blood Disorders and Public Health Genomics (CFD)

• Epidemiology and Surveillance Branch (CFBD) to the Blood Disorders Surveillance and Epidemiology Branch (CFBD)

III. Under Part C, Section C-B, Organization and Functions, delete the mission or functional statements for and replace with the following:

National Center on Birth Defects and Developmental Disabilities (CF). The mission of the National Center on Birth Defects and Developmental Disabilities (NCBDDD) is to improve the health of children and adults by preventing birth defects and developmental disabilities, and complications of heredity blood disorders; promoting optimal child development, and the health and wellness among children and adults living with disabilities and those living with or at risk of genetic disorder across the lifespan. NCBDDD strives to prevent disease save healthcare costs and reduce health disparities in the United States. In carrying out this mission, this organization: (1) conducts public health research, epidemiological investigations, genomic research, laboratory research, demonstration projects and public health programs; (2) plans, develops, establishes, and maintains systems of surveillance and monitoring the population for these conditions; (3) operates regional centers for the conduct of applied epidemiological research on these conditions; (4) provides information and education to healthcare providers, public health professionals, and the public on these conditions; (5) provides technical assistance, consultation, capacity building through technology transfer, grants, cooperative agreements, contracts, and other means to state, local, international, and nonprofit organizations to prevent and control these conditions; (6) provides training in the epidemiology of these conditions for healthcare professionals within and outside the United States; (7) translates scientific findings into intervention, prevention, and health promotion strategies; (8) conducts evaluations of programs to determine effectiveness; and (9) coordinates activities with other CDC organizations and Federal and non-Federal health agencies, as appropriate.

After item 4 of the Office of the Director (CF1) functional statement, insert the following:

Office of the Director (CF1). (5) coordinates with medical, scientific, and other professional organizations interested in birth defects prevention, genetics, developmental disabilities prevention, and disabilities and health, and prevention of complications of hereditary blood disorders.

After item 4 of the Division of Birth Defects and Infant Disorders (CFB1) functional statement, insert the following:

Division of Birth Defects and Infant Disorders (CFB1). (5) provides assistance to state and local health departments on community exposures to teratogenic, mutagenic, embryotoxic, other environmental agents, and genetic influences adversely interfering with normal growth and development.

Office of the Director (CFD1). (1) provides leadership and guidance on strategic planning and implementation, program priority setting, and policy development, to advance the mission of the division, NCBDDD, and CDC; (2) develops goals, objectives, and the budget; monitors progress and allocation of resources, and reports accomplishments, future directions, and resource requirements, (3) facilitates scientific, policy and program collaboration among divisions and centers, and between CDC and other Federal/non-Federal partners; (4) promotes the advancement of science throughout the division, supports program evaluation, and ensures that research meets the highest standards in the field; (5) provides medical expertise and consultation to planning, projects, policies and program activities; (6) advises the NCBDDD Office of the Director on matters relating to blood disorders and genomics and coordinates division responses to requests for technical assistance or information on activities supported by the division; (7) develops and produces communications tools and public affairs strategies to meet the needs of division programs and mission; and (8) represents the division at official professional and scientific meetings, both within and outside of CDC.

IV. Under Part C, Section C-B, Organization and Functions, add the following functional statements:

Public Health Genomics Branch (CFDD). (1) identifies and evaluates emerging genomic, family health history, and precision health applications with the potential to impact population health by preventing disease, saving healthcare costs, and reducing health disparities in the United States; (2) integrates advances in human genomics, machine learning, data science, and predictive analytics responsibly and effectively into public health programs and healthcare; (3) provides technical assistance and advice to CDC leadership and programs, other Federal agencies, state health departments, and other external partners by identifying, evaluating, and implementing evidence-based genomics and precision health practices to prevent and control the country's leading genetic diseases; (4) supports policy, education, and surveillance frameworks to promote effective implementation of evidence-based recommendations for genomic tests, family health history, and precision health applications, as well as those applications that will emerge in the future; and (5) conducts genomics and epidemiologic studies and analyses to improve public health.

V. Under Part C, Section C-B, Organization and Functions, the following organizational unit is deleted in its entirety:

• Office of Public Health Genomics and Precision Public Health (CPPE) within the Office of Science (CPP)

Delegations of Authority

All delegations and redelegations of authority made to officials and employees of affected organizational components will continue in them or their successors pending further redelegation, provided they are consistent with this reorganization.

(Authority: 44 U.S.C. 3101)

Robin D. Bailey, Jr.,
Chief Operating Officer, Centers for Disease Control and Prevention.

[FR Doc. 2023-14703 Filed 7-11-23; 8:45 am]

BILLING CODE 4163-18-P